DEPARTMENT OF DEFENSE

Office of the Secretary

[DoD-2007-OS-0136]

Defense Transportation Regulation, Part IV

AGENCY: Department of Defense; United States Transportation Command (USTRANSCOM).

ACTION: Notice.

SUMMARY: The Department of Defense has published Phase II Interim Final Business Rules for the Families First Personal Property Program in the Defense Transportation Regulation (DTR) Part IV (DTR 4500.9-R). These Phase II Business Rules were made available for public comment under a Federal Register Notice that published on April 1, 2008 (73 FR 17327). All comments have been reviewed and disposition is located on the USTRANSCOM Web site at http://www.transcom.mil/j5/pt/dtr_part_iv.cfm.

FOR FURTHER INFORMATION CONTACT: Mr. Jim Teague, United States Transportation Command, TCJ5/4-PT, 508 Scott Drive, Scott Air Force Base, IL 62225-5357; 618) 229-1985.

SUPPLEMENTARY INFORMATION: Any changes as a result of comments received are identified on the disposition excel spreadsheet located on the USTRANSCOM Web site. Identified changes will be updated and published in the applicable business rules.

Dated: October 22, 2008.
Patricia L. Toppings,
OSD Federal Register Liaison Officer, Department of Defense.

[FR Doc. E8-25998 Filed 10-31-08; 8:45 am]

BILLING CODE 5001-06-P